DEPARTMENT OF HEALTH AND HUMAN SERVICES

Centers for Disease Control and Prevention

Advisory Committee to the Director (ACD), Centers for Disease Control and Prevention (CDC)—Ethics Subcommittee (ES)

In accordance with section 10(a)(2) of the Federal Advisory Committee Act (Pub. L. 92-463), the Centers for Disease Control and Prevention (CDC) announces the following meeting of the aforementioned subcommittee:

Times and Dates:

1 p.m.-5 p.m., June 16, 2011

8:30 a.m.-12:30 p.m., June 17, 2011

Place: CDC, Thomas R. Harkin Global Communications Center, Distance Learning Auditorium, 1600 Clifton Road, NE., Atlanta, Georgia 30333. This meeting is also available by teleconference. Please dial (877) 928-1204 and enter code 4305992.

Status: Open to the public, limited only by the space available. The meeting room accommodates approximately 60 people. To accommodate public participation in the meeting, a conference telephone line will be available. The public is welcome to participate during the public comment. The public comment periods are tentatively scheduled from 4 p.m.-4:15 p.m. on June 16, 2011 and from 12 p.m.-12:15 p.m. on June 17, 2011.

Purpose: The ES will provide counsel to the ACD, CDC, regarding a broad range of public health ethics questions and issues arising from programs, scientists and practitioners.

Matter To Be Discussed: Agenda items will include the following: An update on ES presentation during the April 28, 2011, ACD, CDC meeting; discussion of next steps on addressing potential public health ethical issues associated with implementation of effective preventive interventions for noncommunicable disease; and review of workgroup progress on developing practical tools to assist state, tribal, local, and territorial health departments in their efforts to address public health ethics challenges. The agenda is subject to change as priorities dictate.

Contact Person for More Information: For security reasons, members of the public interested in attending the meeting should contact Drue Barrett, PhD, Designated Federal Officer, ACD, CDC-ES, 1600 Clifton Road, NE., M/S D-50, Atlanta, Georgia 30333. Telephone (404) 639-4690. E-mail: dbarrett@cdc.gov. The deadline for notification of attendance is June 10, 2011.

The Director, Management Analysis and Services Office, has been delegated the authority to sign Federal Register notices pertaining to announcements of meetings and other committee management activities, for both the Centers for Disease Control and Prevention and the Agency for Toxic Substances and Disease Registry.

Dated: May 16, 2011.
Elaine L. Baker,
Director, Management Analysis and Services Office, Centers for Disease Control and Prevention.

[FR Doc. 2011-12562 Filed 5-20-11; 8:45 am]

BILLING CODE 4163-18-P